FEDERAL DEPOSIT INSURANCE CORPORATION

FDIC Information Quality Guidelines

AGENCY: Federal Deposit Insurance Corporation.

ACTION: Notice of availability of guidelines.

SUMMARY: The Federal Deposit Insurance Corporation's (FDIC) Information Quality Guidelines will be available for public access on the FDIC Web site: http://www.fdic.gov, on October 1, 2002. The Information Quality Guidelines describe the FDIC's procedures for reviewing and substantiating the quality of information before it is disseminated to the public, and the procedures by which an affected person may request correction of information disseminated by the FDIC that does not comply with the information quality guidelines.

EFFECTIVE DATE: October 1, 2002.

FOR FURTHER INFORMATION CONTACT: Patricia Klear, Special Assistant to the Director, Division of Information Resources Management, (703) 516-5401, Manuel A. Palau, Counsel, Legal Division, (202) 898-8829, or Thomas E. Nixon, Senior Attorney, Legal Division, (202) 898-8766, Federal Deposit Insurance Corporation, 550 17th Street NW., Washington, DC 20429.

SUPPLEMENTARY INFORMATION:

Authority: Section 515 of the Treasury and General Government Appropriations Act for Fiscal Year 2001 (Pub. L. 106-554; 114 Stat. 2763).

Background: Section 515 of the Treasury and General Government Appropriations Act for Fiscal Year 2001 directed agencies subject to the Paperwork Reduction Act (44 U.S.C. 3501 et seq.) to develop information quality guidelines applicable to information disseminated by the agency on or after October 1, 2002. Consistent with Office of Management and Budget (OMB) guidelines implementing section 515 (66 FR 49718, Sept. 28, 2001, 67 FR 8452, Feb. 22, 2002), the FDIC has developed information quality guidelines that ensure and maximize the quality, objectivity, utility, and integrity of information disseminated by the FDIC, and which include an administrative mechanism that allows affected persons to seek and obtain correction, where appropriate, of information disseminated by the FDIC that does not comply with FDIC or OMB guidelines. As required by OMB's guidelines, the FDIC is publishing in the Federal Register a notice of availability of the guidelines on its Web site www.fdic.gov.

Dated: September 24, 2002.
Federal Deposit Insurance Corporation.
Robert E. Feldman,
Executive Secretary.

[FR Doc. 02-24676 Filed 9-27-02; 8:45 am]

BILLING CODE 6714-01-P